NUCLEAR REGULATORY COMMISSION

Final Regulatory Guide: Issuance, Availability

AGENCY: U.S. Nuclear Regulatory Commission.

ACTION: Issuance, Availability of Regulatory Guide 1.210.

FOR FURTHER INFORMATION CONTACT: Satish Aggarwal, U.S. Nuclear Regulatory Commission, Washington, DC 20555-0001, telephone (301) 415-6005 or e-mail to SKA@nrc.gov.

SUPPLEMENTARY INFORMATION: The U.S. Nuclear Regulatory Commission (NRC) is issuing the new Regulatory Guide 1.210, “Qualification of Safety-Related Battery Chargers and Inverters for Nuclear Power Plants.” The NRC's regulatory guides describe and make available to the public information such as methods that are acceptable to the NRC staff for implementing specific parts of the agency's regulations, techniques that the staff uses in evaluating specific problems or postulated accidents, and data that the staff needs in its review of applications for permits and licenses.

The regulations in Title 10, Part 50, “Domestic Licensing of Production and Utilization Facilities,” of the Code of Federal Regulations (10 CFR Part 50) require that structures, systems, and components that are important to safety in a nuclear power plant must be designed to accommodate the effects of environmental conditions (i.e., remain functional under postulated design-basis events (DBEs)). Toward that end, the general requirements appear in General Design Criterion (GDC) 1, “Quality Standards and Records,” GDC 2, “Design Bases for Protection Against Natural Phenomena,” GDC 4, “Environmental and Dynamic Effects Design Bases,” and GDC 23, “Protection System Failure Modes,” of Appendix A, “General Design Criteria for Nuclear Power Plants,” to 10 CFR Part 50. Augmenting those general requirements, 10 CFR 50.49, “Environmental Qualification of Electric Equipment Important to Safety for Nuclear Power Plants,” contains the specific requirements pertaining to qualification of certain electrical equipment important to safety. In addition, Criterion III, “Design Control,” of Appendix B, “Quality Assurance Criteria for Nuclear Power Plants,” to 10 CFR Part 50 requires that where a test program is used to verify the adequacy of a specific design feature, it should include suitable qualification testing of a prototype unit under the most severe DBE.

This regulatory guide describes a method that the NRC staff considers acceptable for complying with the regulations for qualification of safety-related battery chargers and inverters for nuclear power plants.

In July 2007, the NRC published a draft of this guide as DG-1148. The public comment period closed on October 2, 2007. The staff's responses to the public comments are located in the NRC's Agencywide Documents Access and Management System (ADAMS) under Accession No. ML080640181.

Electronic copies of Regulatory Guide 1.210 are available through the NRC's public Web site under “Regulatory Guides” at http://www.nrc.gov/reading-rm/doc-collections/.

In addition, regulatory guides are available for inspection at the NRC's Public Document Room (PDR), which is located at 11555 Rockville Pike, Rockville, MD. The PDR mailing address is USNRC PDR, Washington, DC 20555-0001. The PDR can also be reached by telephone at (301) 415-4737 or (800) 397-4209, by fax at (301) 415-3548, and by e-mail to PDR@nrc.gov.

Regulatory guides are not copyrighted, and NRC approval is not required to reproduce them.

Dated at Rockville, Maryland, this 2nd day of June, 2008.
For the Nuclear Regulatory Commission.
Stephen C. O'Connor,
Acting Chief, Regulatory Guide Development Branch, Division of Engineering, Office of Nuclear Regulatory Research.

[FR Doc. E8-12695 Filed 6-5-08; 8:45 am]

BILLING CODE 7590-01-P